DEPARTMENT OF COMMERCE

International Trade Administration

[A-428-815 and A-580-816]

Corrosion-Resistant Carbon Steel Flat Products From Germany and the Republic of Korea: Final Results of Full Sunset Reviews

AGENCY: Import Administration, International Trade Administration, Department of Commerce.

SUMMARY: On July 27, 2012, the Department of Commerce (“the Department”) issued the preliminary results of the full third sunset reviews of the antidumping duty (“AD”) orders on certain corrosion-resistant carbon steel flat products (“CORE”) from Germany and the Republic of Korea (“Korea”).¹ We received comments from interested parties on our Preliminary Results. As a result of our analysis, the Department finds that revocation of these AD orders would likely lead to continuation or recurrence of dumping at margins of dumping specified in the “Final Results of Reviews” section of this notice.

¹ Corrosion-Resistant Carbon Steel Flat Products From Germany and the Republic of Korea: Preliminary Results of Full Sunset Reviews, 77 FR 44213 (July 27, 2012) and accompanying Issues and Decision Memorandum (“Preliminary Results”).

DATES: Effective Date: December 6, 2012.

FOR FURTHER INFORMATION CONTACT: James Terpstra, AD/CVD Operations, Office 8, Import Administration, U.S. Department of Commerce, 14th Street and Constitution Avenue NW., Washington, DC 20230; telephone: (202) 482-3965.

SUPPLEMENTARY INFORMATION

Background

On January 3, 2012, the Department initiated the third sunset review of the AD orders on CORE from Germany and Korea pursuant to section 751(c) of the Tariff Act of 1930, as amended (“the Act”).² The Department received notices of intent to participate from the following domestic interested parties: United States Steel Corporation (“U.S. Steel”); ArcelorMittal USA LLC (“AMUSA”); and Nucor Corporation (“Nucor”), within the deadline specified in 19 CFR 351.218(d)(1)(i). The domestic interested parties claimed interested party status under section 771(9)(C) of the Act as U.S. producers of the subject merchandise. The Department received complete substantive responses from the domestic interested parties within the 30-day deadline specified in 19 CFR 351.218(d)(3)(i).

² Initiation of Five-Year (“Sunset”) Review, 77 FR 85 (January 3, 2012).

The Department did not receive a substantive response from any respondent in either of the sunset reviews of the AD orders on CORE from Germany and Korea. As a result, pursuant to 19 CFR 351.218(e)(1)(ii)(C)(2), the Department determined to conduct expedited reviews of these orders. However, on April 20, 2012, the Department revised its original adequacy determination and determined to conduct full sunset reviews.³ The conversion to full sunset reviews and extension of the deadlines for the preliminary results were done to provide interested parties with an opportunity to comment concerning the implementation of the Final Modification for Reviews.⁴

³ Memorandum to Barbara E. Tillman, Acting Deputy Assistant Secretary for Antidumping Duty and Countervailing Duty Operations, from Melissa G. Skinner, Director, Office 3, on “Sunset Reviews of the Antidumping Duty Orders on Corrosion-Resistant Carbon Steel Flat Products from Germany and South Korea: Adequacy Redetermination Memorandum” and Corrosion-Resistant Carbon Steel Flat Products From Germany and South Korea: Extension of Time Limits for Preliminary and Final Results of Third Antidumping Duty Sunset Reviews, 77 FR 25141 (April 27, 2012).

⁴ Antidumping Proceedings: Calculation of the Weighted-Average Dumping Margin and Assessment Rate in Certain Antidumping Duty Proceedings; Final Modification for Reviews, 77 FR 8101 (February 14, 2012) (“Final Modification for Reviews”).

On July 27, 2012, the Department published in the Preliminary Results of the full third sunset review of the AD order on CORE from Germany and Korea.⁵ We preliminarily found that dumping was likely to continue or recur.

⁵ Preliminary Results.

The Department invited interested parties to comment on the Preliminary Results. On September 17, 2012, we received case briefs from AMUSA and U.S. Steel. We did not receive a rebuttal brief. We did not conduct a hearing in either review because a hearing was not requested.

As explained in the memorandum from the Assistant Secretary for Import Administration, the Department exercised its discretion to toll deadlines for the duration of the closure of the Federal Government from October 29, through October 30, 2012. Thus, all deadlines in this segment of the proceeding have been extended by two days. The revised deadline for the final results of these reviews is now November 30, 2012.⁶

⁶ See Memorandum to the Record from Paul Piquado, Assistant Secretary for Import Administration, regarding “Tolling of Administrative Deadlines As a Result of the Government Closure During Hurricane Sandy,” dated October 31, 2012.

Scope of the Orders

The products subject to the orders include flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 mm, are of a width of 0.5 inch or greater and which measures at least 10 times the thickness, or if of a thickness of 4.75 mm or more, are of a width which exceeds 150 mm and measures at least twice the thickness, as currently classifiable in the Harmonized Tariff Schedule of the United States (“HTSUS”) under item numbers: 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, and 7217.90.5090.

Included in the orders are flat-rolled products of nonrectangular cross-section where such cross-section is achieved subsequent to the rolling process (i.e., products which have been “worked after rolling”)—for example, products which have been beveled or rounded at the edges.

Excluded from the scope of the orders are flat-rolled steel products either plated or coated with tin, lead, chromium, chromium oxides, both tin and lead (“terne plate”), or both chromium and chromium oxides (“tin-free steel”), whether or not painted, varnished or coated with plastics or other nonmetallic substances in addition to the metallic coating. Also excluded from the scope of the orders are clad products in straight lengths of 0.1875 inch or more in composite thickness and of a width which exceeds 150 mm and measures at least twice the thickness. Also excluded from the scope of the orders are certain clad stainless flat-rolled products, which are three-layered corrosion-resistant carbon steel flat-rolled products less than 4.75 mm in composite thickness that consist of a carbon steel flat-rolled product clad on both sides with stainless steel in a 20%-60%-20% ratio.

Further, the Department made three changed circumstances determination with respect to the order on Germany. The Department partially revoked the order with respect to deep-drawing carbon steel strip, roll-clad on both sides with aluminum (AlSi) foils in accordance with St3 LG as to EN 10139/10140.⁷ The Department also partially revoked the order with respect to certain wear plate products.⁸ In addition, the Department partially revoked the order with respect to the following products: Certain corrosion-resistant carbon steel from Germany, meeting the following description: electrolytically zinc coated flat steel products, with a coating mass between 35 and 72 grams per meter squared on each side; with a thickness range of 0.67 mm or more but not more than 2.95 mm and width 817 mm or more but not over 1830 mm; having the following chemical composition (percent by weight): carbon not over 0.08, silicon not over 0.25, manganese not over 0.9, phosphorous not over 0.025, sulfur not over 0.012, chromium not over 0.1, titanium not over 0.005 and niobium not over 0.05; with a minimum yield strength of 310 Mpa and a minimum tensile strength of 390 Mpa; additionally coated on one or both sides with an organic coating containing not less than 30 percent and not more than 60 percent zinc and free of hexavalent chrome.⁹

⁷ Notice of Final Results of Changed Circumstances Antidumping Duty and Countervailing Duty Reviews and Revocation of Orders in Part: Certain Corrosion-Resistant Carbon Steel Flat Products From Germany, 64 FR 51292 (September 22, 1999).

⁸ Notice of Final Results of Antidumping Duty Changed Circumstances Reviews and Revocation of Orders In Part: Certain Corrosion-Resistant Carbon Steel Flat Products From Canada and Germany, 71 FR 14498 (March 22, 2006).

⁹ Notice of Final Results of Antidumping Duty Changed Circumstances Review and Revocation of Order In Part: Certain Corrosion-Resistant Carbon Steel Flat Products from Germany, 71 FR 66163 (November 13, 2006).

Analysis of Comments Received

All issues raised in this review are addressed in the Issues and Decision Memorandum for the Final Results of Full Third Sunset Reviews of the Antidumping Duty Orders on Corrosion-Resistant Carbon Steel Flat Products from Germany and the Republic of Korea (“Decision Memorandum”) from Gary Taverman, Senior Advisor for Antidumping and Countervailing Duty Operations, to Ronald K. Lorentzen, Acting Assistant Secretary for Import Administration, dated concurrently with this final notice, which is hereby adopted by this notice. Parties can find a complete discussion of all issues raised in this full sunset review and the corresponding recommendation in this public memorandum which is on file electronically via Import Administration's Antidumping and Countervailing Duty Centralized Electronic Service System (“IA ACCESS”). IA ACCESS is available to registered users at http://iaaccess.trade.gov and in the Central Records Unit, Room 7046 of the main Department of Commerce building. In addition, a complete version of the Decision Memorandum can be accessed directly on the internet at http://www.trade.gov/ia/. The signed Decision Memorandum and the electronic versions of the Decision Memorandum are identical in content.

Final Results of Reviews

We determine that revocation of these AD duty orders on CORE from Germany and Korea would be likely to lead to continuation or recurrence of dumping. Further, we determine that the magnitude of the margin likely to prevail are at least 9.35 percent for Thyssen Stahl AG and all other German producers of CORE and at least 12.85 percent for all Korean producers and exporters of CORE, other than POSCO.¹⁰

¹⁰ The order was revoked with respect to Pohang Iron & Steel Co., Ltd. and Pohang Coated Steel Co., Ltd. (collectively, POSCO), who was the only respondent examined in the original antidumping investigation. See Certain Corrosion-Resistant Carbon Steel Flat Products From the Republic of Korea: Notice of Final Results of the 2009-2010 Administrative Review and Revocation, in Part, 77 FR 14501 (March 12, 2012).

Notification to Interested Parties

This notice also serves as the only reminder to parties subject to an administrative protective order (“APO”) of their responsibility concerning the return or destruction of proprietary information disclosed under APO in accordance with 19 CFR 351.305. Timely notification of the return or destruction of APO materials or conversion to judicial protective order is hereby requested. Failure to comply with the regulations and terms of an APO is a violation which is subject to sanction.

We are issuing and publishing the final results of these reviews in accordance with sections 751(c), 752, and 777(i) of the Act.

Dated: November 30, 2012.
Ronald K. Lorentzen,
Acting Assistant Secretary for Import Administration.

[FR Doc. 2012-29533 Filed 12-5-12; 8:45 am]

BILLING CODE 3510-DS-P